DEPARTMENT OF DEFENSE

Office of the Secretary

[Transmittal No. 23-07]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-07, Policy Justification, and Sensitivity of Technology.

Dated: December 31, 2024.
Stephanie J. Bost,
Alternate OSD Federal Register Liaison Officer, Department of Defense.

BILLING CODE 6001-FR-P

BILLING CODE 6001-FR-C

Transmittal No. 23-07

Notice of Proposed Issuance of Letter of Offer Pursuant to Section 36(b)(1) of the Arms Export Control Act, as amended

(i) Prospective Purchaser: Republic of Türkiye

(ii) Total Estimated Value:

Major Defense Equipment * | $15.3 billion
Other | $ 7.7 billion
TOTAL | $23.0 billion

Funding Source: National Funds

(iii) Description and Quantity or Quantities of Articles or Services under Consideration for Purchase: The Republic of Türkiye has requested to buy 40 new F-16 Block 70 aircraft and to modernize 79 existing F-16 aircraft to V-Configuration. The request includes:

Major Defense Equipment (MDE):

Thirty-two (32) F-16 C Block 70 Aircraft

Eight (8) F-16 D Block 70 Aircraft

Forty-eight (48) F110-GE-129D Engines (40 installed, 8 spares)

One hundred forty-nine (149) Improved Programmable Display Generators (iPDG) (40 installed, 10 spares, 99 for modernization program (79 installed, 20 spares))

One hundred forty-nine (149) AN/APG-83 Active Electronically Scanned Array (AESA) Scalable Agile Beam Radars (SABR) (40 installed, 10 spares, 99 for modernization program (79 installed, 20 spares))

One hundred sixty-nine (169) Modular Mission Computers (MMC) 7000AHC (or available mission computer) (40 installed, 10 spares, 119 for modernization program (79 installed, 40 spares))

One hundred fifty-nine (159) Embedded Global Positioning System (GPS) Inertial Navigation Systems (INS) (EGI) with Selective Availability Anti-Spoofing Module (SAASM) or M-Code capability and Precise Positioning Service (PPS) (40 installed, 8 spares, 111 for modernization program (79 installed, 32 spares))

One hundred sixty-eight (168) Integrated Viper Electronic Warfare Suite (IVEWS) or equivalent Electronic Warfare (EW) systems (40 installed, 10 spares, 118 for modernization program (79 installed, 39 spares))

Eight hundred fifty-eight (858) LAU-129 Guided Missile Launchers

Forty-four (44) M61 Vulcan cannons (40 installed, 4 spares)

Sixteen (16) AN/AAQ-33 Sniper Advanced Targeting Pods (ATP)

One hundred fifty-one (151) Multifunctional Information Distribution System-Joint Tactical Radio Systems (MIDS-JTRS) (40 installed and 4 ground terminals, 8 spares, and 99 for modernization program (79 installed and 4 ground terminals, 16 spares))

Nine hundred fifty-two (952) Advanced Medium Range Air-to-Air Missiles (AMRAAM) AIM-120C-8 or equivalent missiles

Ninety-six (96) AMRAAM Guidance Sections

Eight hundred sixty-four (864) GBU-39/B Small Diameter Bombs Increment 1 (SDB-1)

Two (2) GBU-39(T-1)/B SDB-1 Guided Test Vehicles

Two (2) GBU-39(T-1)/B SDB-1 Practice Bombs

Ninety-six (96) AGM-88B High-Speed Anti-Radiation Missiles (HARM)

Ninety-six (96) AGM-88E Advanced Anti-Radiation Guided Missiles (AARGM)

Ten (10) AARGM Captive Air Training Missiles (CATM)

Eleven (11) AARGM Control Sections

Twelve (12) AARGM Guidance Sections

Four hundred one (401) AIM-9X Block II Sidewinder Missiles

Twelve (12) AIM-9X Block II Sidewinder Captive Air Training Missiles (CATMs)

Forty (40) AIM-9X Block II Sidewinder Tactical Guidance Units

Twelve (12) AIM-9X Block II Sidewinder CATM Guidance Units

Twelve (12) MK82 Inert Filled General-Purpose Bombs

Eight hundred fifty (850) Joint Direct Attack Munition (JDAM) KMU-556 Tail Kits for GBU-31

Two hundred (200) JDAM KMU-557 Tail Kits for GBU-31v3

Three hundred eighty-four (384) JDAM KMU-559 Tail Kits for GBU-32

Three (3) JDAM KMU-572 Tail Kits for GBU-38 or Laser JDAM GBU-54

One thousand fifty (1,050) FMU-152 Fuzes

Non-MDE:

Also included are AMRAAM CATMs; AIM-9X Sidewinder training missiles and Active Optical Target Detectors (AOTD); HARM control sections, rocket motors, and warhead spares; FMU-139 Joint Programmable Fuzes; DSU-38 Laser Guidance Sets for GBU-54; missile containers; AN/ARC-238 radios; AN/APX-127 or equivalent Advanced Identification Friend or Foe (AIFF) Combined Interrogator Transponders (CIT) with mode 5; Joint Helmet Mounted Cueing Systems (JHMCS) II or Scorpion Hybrid Optical-based Inertial Tracker (HObIT) helmet mounted displays; Infrared Search and Track (IRST) pods; AN/ALE-47 Countermeasure Dispenser Systems (CMDS); KY-58 and KIV-78 cryptographic devices; Simple Key Loaders (SKLs); additional secure communications, precision navigation, and cryptographic equipment; Flight Mission Planning Systems (FMPS); Remote Operated Video Enhanced Receivers (ROVER) 6i/6Sis; Tactical Network ROVER kits, and STINGER Multi Bi-Directional (MBI) antennas; SNIPER pod pylons; impulse cartridges, chaff, flares, and ammunition; other bomb components; Common Munitions Built-in-Test (BIT) Reprogramming Equipment (CMBRE); Rackmount Improved Avionics Intermediate Shop (RIAIS); Cartridge Actuated Devices/Propellant Actuated Devices (CAD/PAD); Triple Missile Launcher Adapters (TMLA); aircraft, avionics, and weapons integration, test support, and equipment; major modernization upgrade kits for F-16 Block 40 and Block 50+ aircraft and Service Life Extension Program (SLEP) modifications; aircraft and engine repair and refurbishment after maintenance; spare and repair parts, consumables, and accessories and repair and return support; aircraft, engine, ground, and pilot support equipment; Classified/Unclassified Computer Program Identification Number (CPIN) systems; electronic warfare database support; pylons, launcher adaptors, weapon interfaces, bomb and ejection racks, conformal fuel tanks, and travel pods; precision measurement equipment laboratory and calibration support; Classified/Unclassified software and software support; Classified/Unclassified publications, manuals, and technical documentation; maps and mapping data; facilities and construction support; simulators and training devices; personnel training and training equipment; United States (U.S.) Government and contractor engineering, technical and logistics support services, studies and surveys; and other related elements of logistical and program support.

(iv) Military Department: Air Force (TK-D-SAE, TK-D-QCV)

(v) Prior Related Cases, if any: TK-D-SFA, TK-D-SLA, TK-D-NCU, TK-D-SMB, TK-D-YAC, TK-D-YAE, TK-D-YAH, TK-P-AHX

(vi) Sales Commission, Fee, etc., Paid, Offered, or Agreed to be Paid: None known at this time

(vii) Sensitivity of Technology Contained in the Defense Article or Defense Services Proposed to be Sold: See Attached Annex

(viii) Date Report Delivered to Congress: January 26, 2024

* As defined in Section 47(6) of the Arms Export Control Act.

POLICY JUSTIFICATION

Republic of Türkiye—F-16 Aircraft Acquisition and Modernization

The Republic of Türkiye has requested to buy 40 new F-16 aircraft and to modernize 79 existing F-16 aircraft to V-Configuration. The request includes: thirty-two (32) F-16 C Block 70 aircraft; eight (8) F-16 D Block 70 aircraft; forty-eight (48) F110-GE-129D engines (40 installed, 8 spares); one hundred forty-nine (149) Improved Programmable Display Generators (iPDG) (40 installed, 10 spares, 99 for modernization program (79 installed, 20 spares)); one hundred forty-nine (149) AN/APG-83 Active Electronically Scanned Array (AESA) Scalable Agile Beam Radars (SABR) (40 installed, 10 spares, 99 for modernization program (79 installed, 20 spares)); one hundred sixty-nine (169) Modular Mission Computers (MMC) 7000AHC (or available mission computer) (40 installed, 10 spares, 119 for modernization program (79 installed, 40 spares)); one hundred fifty-nine (159) Embedded Global Positioning System (GPS) Inertial Navigation Systems (INS) (EGI) with Selective Availability Anti-Spoofing Module (SAASM) or M-Code capability and Precise Positioning Service (PPS) (40 installed, 8 spares, 111 for modernization program (79 installed, 32 spares)); one hundred sixty-eight (168) Integrated Viper Electronic Warfare Suite (IVEWS) or equivalent Electronic Warfare (EW) systems (40 installed, 10 spares, 118 for modernization program (79 installed, 39 spares)); eight hundred fifty-eight (858) LAU-129 guided missile launchers; forty-four (44) M61 Vulcan cannons (40 installed, 4 spares); sixteen (16) AN/AAQ-33 Sniper Advanced Targeting Pods (ATP); one hundred fifty-one (151) Multifunctional Information Distribution System-Joint Tactical Radio Systems (MIDS-JTRS) (40 installed and 4 ground terminals, 8 spares, and 99 for modernization program (79 installed and 4 ground terminals, 16 spares)); nine hundred fifty-two (952) Advanced Medium Range Air-to-Air Missiles (AMRAAM) AIM-120C-8 or equivalent missiles; ninety-six (96) AMRAAM guidance sections; eight hundred sixty-four (864) GBU-39/B Small Diameter Bombs Increment 1 (SDB-1); two (2) GBU-39(T-1)/B SDB-1 guided test vehicles; two (2) GBU-39(T-1)/B SDB-1 practice bombs; ninety-six (96) AGM-88B High-Speed Anti-Radiation Missiles (HARM); ninety-six (96) AGM-88E Advanced Anti-Radiation Guided Missiles (AARGM); ten (10) AARGM Captive Air Training Missiles (CATM); eleven (11) AARGM control sections; twelve (12) AARGM guidance sections; four hundred one (401) AIM-9X Block II Sidewinder missiles; twelve (12) AIM-9X Block II Sidewinder Captive Air Training Missiles (CATMs); forty (40) AIM-9X Block II Sidewinder tactical guidance units; twelve (12) AIM-9X Block II Sidewinder CATM guidance units; twelve (12) MK82 Inert Filled general purpose bombs; eight hundred fifty (850) Joint Direct Attack Munition (JDAM) KMU-556 tail kits for GBU-31; two hundred (200) JDAM KMU-557 tail kits for GBU-31v3; three hundred eighty-four (384) JDAM KMU-559 tail kits for GBU-32; three (3) JDAM KMU-572 tail kits for GBU-38 or Laser JDAM GBU-54; one thousand fifty (1,050) FMU-152 fuzes. Also included are AMRAAM CATMs; AIM-9X Sidewinder training missiles and Active Optical Target Detectors (AOTD); HARM control sections, rocket motors, and warhead spares; FMU-139 Joint Programmable Fuzes; DSU-38 Laser Guidance Sets for GBU-54; missile containers; AN/ARC-238 radios; AN/APX-127 or equivalent Advanced Identification Friend or Foe (AIFF) Combined Interrogator Transponders (CIT) with mode 5; Joint Helmet Mounted Cueing Systems (JHMCS) II or Scorpion Hybrid Optical-based Inertial Tracker (HObIT) helmet mounted displays; Infrared Search and Track (IRST) pods; AN/ALE-47 Countermeasure Dispenser Systems (CMDS); KY-58 and KIV-78 cryptographic devices; Simple Key Loaders (SKLs); additional secure communications, precision navigation, and cryptographic equipment; Flight Mission Planning Systems (FMPS); Remote Operated Video Enhanced Receivers (ROVER) 6i/6Sis; Tactical Network ROVER kits, and STINGER Multi Bi-Directional (MBI) antennas; SNIPER pod pylons; impulse cartridges, chaff, flares, and ammunition; bomb components and Common Munitions Built-in-Test Reprogramming Equipment (CMBRE); Rackmount Improved Avionics Intermediate Shop (RIAIS); Cartridge Actuated Devices/Propellant Actuated Devices (CAD/PAD); Triple Missile Launcher Adapters (TMLA); aircraft, avionics, and weapons integration, test support, and equipment; major modernization upgrade kits for F-16 Block 40 and Block 50+ aircraft and Service Life Extension Program (SLEP) modifications; aircraft and engine repair and refurbishment after maintenance; engine and aircraft spare and repair parts, consumables, and accessories and repair and return support; aircraft, engine, ground, and pilot support equipment; Classified/Unclassified Computer Program Identification Number (CPIN) systems; electronic warfare database support; pylons, launcher adaptors, weapon interfaces, bomb and ejection racks, conformal fuel tanks, and travel pods; precision measurement equipment laboratory and calibration support; Classified/Unclassified software and software support; Classified/Unclassified publications, manuals, and technical documentation; maps and mapping data; facilities and construction support; simulators and training devices; personnel training and training equipment; U.S. Government and contractor engineering, technical and logistics support services, studies and surveys; and other related elements of logistical and program support. The estimated total cost is $23.0 billion.

This proposed sale will support the foreign policy goals and national security of the U.S. by improving the air capabilities and interoperability of a North Atlantic Treaty Organization (NATO) Ally that is a force for political and economic stability in Europe.

The proposed sale will allow Türkiye to expand and modernize its fleet of F-16 aircraft as older F-16 aircraft approach the end of their service life. These new and refurbished aircraft will provide Türkiye with a fleet of modernized multi-role combat aircraft to enable it to provide for the defense of its airspace, contribute to NATO missions to preserve regional security and defend NATO Allies, and maintain interoperability with U.S. and NATO forces. Türkiye has F-16 aircraft in its inventory and will have no difficulty absorbing these aircraft and services into its armed forces.

The proposed sale of this equipment and support will not alter the basic military balance in the region.

The principal contractor will be Lockheed Martin, Greenville, SC. The purchaser typically requests offsets. Any offset agreement will be defined in negotiations between the purchaser and the contractor.

Implementation of this proposed sale will not require the assignment of any additional U.S. Government or contractor representatives to Türkiye.

There will be no adverse impact on U.S. defense readiness as a result of this proposed sale.

Transmittal No. 23-07

Notice of Proposed Issuance of Letter of Offer Pursuant to Section 36(b)(1) of the Arms Export Control Act

Annex

Item No. vii

(vii) Sensitivity of Technology:

1. The F-16 Block 70 weapon system is a fourth generation single-engine supersonic all-weather multirole fighter aircraft and features advanced avionics and systems. It contains the General Electric F110-129D engine, AN/APG-83 radar, digital flight control system, embedded internal global navigation system, Joint Helmet Mounted Cueing Systems (JHMCS) II or Scorpion Hybrid Optical-based Inertial Tracker (HObIT) with Night Vision Device (NVD) compatibility, internal and external Electronic Warfare (EW) equipment, Advanced IFF, Link-16 datalink, operational flight trainer, and software and computer systems.

(a) General Electric F110-GE-129D engines are afterburning turbofan jet engines that power the F-16.

(b) General Electric F110-GE-129D engine spare modules are kits made up of spare engine components including the following modules: inlet fan, core engine, fan drive turbine, augmenter duct and nozzle, and gear box.

(c) The Modular Mission Computer (MMC) 7000AHC is the central aircraft computer of the F-16. It serves as the hub for all aircraft subsystems and avionics data transfer.

(d) The Improved Programmable Display Generator (iPDG) and color multifunction displays utilize ruggedized commercial liquid crystal display technology that is designed to withstand the harsh environment found in modern fighter cockpits. The display generator is the fifth-generation graphics processor for the F-16. Through the use of state-of-the-art microprocessors and graphics engines, it provided orders of magnitude increases in throughput, memory, and graphics capabilities.

(e) The APG-83 Scalable Agile Beam Radar (SABR) is an Active Electronically Scanned Array (AESA) radar upgrade for the F-16. It includes higher processor power, higher transmission power, more sensitive receiver electronics, and Synthetic Aperture Radar (SAR), which creates higher-resolution ground maps from a greater distance than existing mechanically scanned array radars (e.g., APG-68). The upgrade features an increase in detection range of air targets, increases in processing speed and memory, and significant improvements in all modes.

(f) The Embedded Global Positioning System/Inertial Navigation System (GPS/INS) (EGI) with Selective Availability Anti-Spoofing Module (SAASM)—or M-Code receiver when available—and Precise Positioning Service (PPS) is a self-contained navigation system that provides the following: acceleration, velocity, position, attitude, platform azimuth, magnetic and true heading, altitude, body angular rates, time tags, and coordinated universal time (UTC) synchronized time. SAASM or M-Code enables the GPS receiver access to the encrypted P(Y or M) signal, providing protection against active spoofing attacks.

(g) The Joint Helmet Mounted Cueing System II (JHMCS II) or Scorpion Hybrid Optical-based Inertial Tracker (HObIT) is a device used in aircraft to project information to the pilot's eyes and aids in tasks such as cueing weapons and aircraft sensors to air and ground targets. This system projects visual targeting and aircraft performance information on the back of the helmet's visor, enabling the pilot to monitor this information without interrupting their field of view through the cockpit canopy. This provides improvement for close combat targeting and engagement.

(h) The Integrated Electronic (EW) Warfare Suite provides passive radar warning, wide spectrum Radio Frequency (RF) jamming, and control and management of the entire EW system. This system is anticipated to be internal to the aircraft, although mounted pod variants are used in certain circumstances.

(i) The Advanced Identification Friend or Foe (AIFF) Combined Interrogator Transponder (CIT) is a system capable of transmitting and interrogating Mode V. Mode IV and Mode V anti-jam performance specifications, data, software source code, algorithms, and tempest plans or reports will not be offered, released, discussed, or demonstrated.

(j) The Multifunction Information Distribution System (MIDS) Joint Tactical Radio System (JTRS) is a four-channel software programmable radio for Link-16 digital voice communications and datalink, Tactical Air Navigation (TACAN), and advanced waveforms. Link-16 is a command, control, communications, and intelligence (C3I) system incorporating high-capacity and jam-resistant digital communication links for exchange of near real-time tactical information, including both data and voice, among air, ground, and sea elements.

2. The LAU-129 Guided Missile Launcher is capable of launching the AIM-9 family of missiles or AIM-120 AMRAAM. The LAU-129 launcher serves as the mechanical and electrical interface between missile and aircraft.

3. The Triple Missile Launcher Adapter (TMLA) carries three (3) missile launchers and missiles from a single standard wing pylon.

4. The M61 Vulcan Cannon is a six-barreled automatic 20mm cannon with a cyclic rate of fire from 2,500-6,000 shots per minute. This weapon is a hydraulically powered air-cooled Gatling gun used to damage and destroy aerial targets, suppress and incapacitate personnel targets, and damage and destroy moving and stationary light material targets.

5. The AN/AAQ-33 Sniper Advanced Targeting Pod (ATP) is a single, lightweight targeting pod for military aircraft that provides positive target identification, autonomous tracking, Global Positioning System (GPS) coordinate generation, and precise weapons guidance from extended standoff ranges. It incorporates a high-definition mid-wave forward-looking infrared (FLIR) dual-mode laser, visible-light High-Definition television (HDTV), laser spot tracker, video data link (VDL), and a digital data recorder.

6. The L3Harris ROVER 6i/6Si transceiver provides real-time full-motion video (FMV) and other network data for situational awareness, targeting, battle damage assessment, and surveillance for relay and convoy over-watch operations and other situations where eyes-on-target are required. This potential sale includes Tactical Network kits and Stinger MBI antennas. It provides expanded frequencies and additional processing resources from previous ROVER versions, allowing increased levels of collaboration and interoperability with numerous manned and unmanned airborne platforms.

7. The Infrared Search and Track (IRST) system detects and tracks threats that have infrared signatures at long ranges. It can act without emitting any radiation of its own and enables aircrews to detect adversaries before those adversaries see or sense them.

8. The AN/ARC-238 radio with HAVE QUICK II is a voice communications radio system that employs cryptographic technology. Other waveforms may be included as needed.

9. The AN/APX-126/127 Advanced Identification Friend or Foe (IFF) Combined Interrogator Transponder (CIT) is a system capable of transmitting and interrogating Mode 5. The AN/APX-127 is a form, fit, and function refresh of the AN/APX-126 and is the next generation to be produced.

10. The AN/ALE-47 Countermeasure Dispenser Set (CMDS) provides an integrated threat-adaptive computer-controlled capability for dispensing chaff, flares, and active radio frequency expendables. The AN/ALE-47 uses threat data received over the aircraft interfaces to assess the threat situation and determine a response.

11. The KY-58 is a secure voice module primarily used to encrypt radio communication to and from military aircraft and other tactical vehicles.

12. The KIV-78 is a cryptographic applique for IFF. It can be loaded with Mode 5 classified elements.

13. The AN/PYQ-10 Simple Key Loader is a handheld device used for securely receiving, storing, and transferring data between compatible cryptographic and communications equipment.

14. The Flight Mission Planning System (FMPS) is a multi-platform, PC-based mission planning system. FMPS is the Turkish-designed equivalent to the Joint Mission Planning System (JMPS).

15. The AIM-9X Block II Sidewinder Missile is a short-range air-to-air missile providing a high off-boresight seeker, enhanced countermeasure rejection capability, low drag/high angle of attack airframe, and the ability to integrate a Helmet Mounted Cueing System. This potential sale will include AIM-9X guidance section spares, Active Optical Target Detectors, Captive Air Training Missiles (CATM), and CATM guidance units.

16. The AIM-120C-8 Advanced Medium Range Air-to-Air Missile (AMRAAM) is a supersonic, air-launched, aerial intercept guided missile featuring digital technology and micro-miniature solid-state electronics. AMRAAM capabilities include look-down/shoot-down, multiple launches against multiple targets, resistance to electronic countermeasures, and interception of high- and low-flying and maneuvering targets. This potential sale will include Captive Air Training Missiles (CATM) as well as AMRAAM guidance section and control section spares.

17. The GBU-39 Small Diameter Bomb Increment 1 (SDB-I) is a 250-lb GPS-aided inertial navigation system with small autonomous, day or night, adverse weather, conventional, air-to-ground precision glide weapon capabilities able to strike fixed and stationary re-locatable non-hardened targets from standoff ranges. It is intended to provide aircraft with an ability to carry a high number of bombs. Aircraft are able to carry four SDBs in place of one 2,000-lb bomb. This potential sale includes SDB-I Guided Test Vehicles and GBU-39/B Tactical Training Rounds.

18. The AGM-88 High-Speed Anti-Radiation Missile (HARM) is a tactical air-to-surface missile designed to inhibit or destroy surface-to-air missile radars, early warning radars, and radar-directed air defense artillery systems. This potential sale includes HARM guidance section, control section, warhead, and rocket motor spares.

19. The AGM-88E Advanced Anti-Radiation Guided Missile (AARGM) weapon system is an air-to-ground missile intended for Suppression of Enemy Air Defenses (SEAD) and Destruction of Enemy Air Defenses (DEAD) missions. The AARGM provides suppression or destruction of enemy RADAR and denies the enemy the use of air defense systems, thereby improving the survivability of tactical aircraft. This potential sale will include CATMs as well as guidance section, control section, propulsion section, GPS cards, and warhead spares.

20. Joint Direct-Attack Munitions (JDAM) consist of a bomb body paired with a warhead-specific tail kit containing an Inertial Navigation System (INS)/Global Positioning System (GPS) guidance capability that converts unguided free-fall bombs into accurate, adverse weather “smart” munitions. The JDAM weapon can be delivered from modest standoff ranges at high or low altitudes against a variety of land and surface targets during the day or night. The JDAM is capable of receiving target coordinates via preplanned mission data from the delivery aircraft, by onboard aircraft sensors (i.e., FLIR, Radar, etc.) during captive carry, or from a third-party source via manual or automated aircrew cockpit entry.

(a) The GBU-31 is a 2,000-pound JDAM consisting of a KMU-556 tail kit and BLU-109 or MK-84 bomb body.

(b) The GBU-31v3 is a 2,000-pound JDAM consisting of a KMU-557 tail kit and BLU-109 bomb body.

(c) The GBU-32 is a 1,000-pound JDAM consisting of a KMU-559 tail kit and BLU-110 or MK-83 bomb body.

(d) The GBU-54 Laser Joint Direct Attack Munition (LJDAM) is a 500-pound JDAM which incorporates all the capabilities of the JDAM guidance tail kit and adds a precision laser guidance set. The LJDAM gives the weapon system an optional semi-active laser guidance in addition to the INS/GPS guidance. This provides the optional capability to strike moving targets. The GBU-54 consists of a DSU-38 laser guidance set, KMU-572 tail kit, and MK-82 or BLU-111 bomb body.

(e) This potential sale includes inert bombs, which have no explosive fill and are used for integration testing.

21. The FMU-152 or FMU-139 Joint Programmable Fuze (JPF) is a multi-delay, multi-arm, and proximity sensor compatible with general purpose blast, frag, and hardened-target penetrator weapons. The JPF settings are cockpit selectable in flight when used with numerous precision-guided weapons.

22. The Common Munitions Built-In-Test/Reprogramming Equipment (CMBRE) is support equipment used to interface with weapon systems to initiate and report BIT results and to upload and download flight software. CMBRE supports multiple munitions platforms with a range of applications that perform preflight checks, periodic maintenance checks, loading of Operational Flight Program (OFP) data, loading of munitions mission planning data, loading of Global Positioning System (GPS) cryptographic keys, and declassification of munitions memory.

23. The Electronic Warfare Integrated Reprogramming Database (EWIRDB) is used by U.S. Government engineers in the reprogramming and creation of shareable Mission Data Files for the AN/ALQ-131 electronic countermeasures pod on the F-16 aircraft. The source product is not releasable to the customer.

24. The highest level of classification of defense articles, components, and services included in this potential sale is SECRET.

25. If a technologically advanced adversary were to obtain knowledge of the specific hardware and software elements, the information could be used to develop countermeasures that might reduce weapon system effectiveness or be used in the development of a system with similar or advanced capabilities.

26. A determination has been made that Türkiye can provide substantially the same degree of protection for the sensitive technology being released as the U.S. Government. This sale is necessary in furtherance of the U.S. foreign policy and national security objectives outlined in the Policy Justification.

27. All defense articles and services listed in this transmittal have been authorized for release and export to Türkiye.

[FR Doc. 2024-31697 Filed 1-3-25; 8:45 am]

BILLING CODE 6001-FR-P